DEPARTMENT OF EDUCATION

President's Board of Advisors on Tribal Colleges and Universities

AGENCY: President's Board of Advisors on Tribal Colleges and Universities, Department of Education.

ACTION: Notice of an open meeting.

SUMMARY: This notice sets forth the schedule and proposed agenda of the upcoming meeting of the President's Board of Advisors on Tribal Colleges and Universities. The notice also describes the functions of the Board. Notice of this meeting is required by section 10(a)(2) of the Federal Advisory Committee Act and is intended to notify the public of its opportunity to attend.

Dates and Times: Monday, February 11, 2008, 1 p.m.-4:30 p.m.; Tuesday, February 12, 2008 9 a.m.-1:45 p.m.

ADDRESSES: The Board will meet at The Madison, Washington, DC, 1177 15th Street, NW., phone: (202) 862-1600.

FOR FURTHER INFORMATION CONTACT: Deborah Cavett, Executive Director, White House Initiative on Tribal Colleges and Universities, 1990 K Street, NW., Room 7014, Washington, DC 20006; telephone: (202) 219-7040; fax: 202-219-7086.

Individuals who use a telecommunications device for the deaf (TDD) may call the Federal Information Relay Service (FRS) at 1-800-877-8339.

SUPPLEMENTARY INFORMATION: The President's Board of Advisors on Tribal Colleges and Universities was established under Executive Order 13270, dated July 2, 2002, and Executive Order 13446 dated September 28, 2007. The Board was established (a) to report to the President annually on the results of the participation of tribal colleges and universities (TCUs) in Federal programs, including recommendations on how to increase the private sector role, including the role of private foundations, in strengthening these institutions, with particular emphasis also given to enhancing institutional planning and development, strengthening fiscal stability and financial management, and improving institutional infrastructure, including the use of technology, to ensure the long-term viability and enhancement of these institutions; (b) to advise the President and the Secretary of Education (Secretary) on the needs of TCUs in the areas of infrastructure, academic programs, and faculty and institutional development; (c) to advise the Secretary in the preparation of a three-year Federal plan for assistance to TCUs in increasing their capacity to participate in Federal programs; (d) to provide the President with an annual progress report on enhancing the capacity of TCUs to serve their students; and (e) to develop, in consultation with the Department of Education and other Federal agencies, a private sector strategy to assist TCUs.

The purpose of the meeting is to update and document the Board's Action Agenda through a review of collaborative efforts, review the final draft of the FY 2006 Report to the President, and to discuss relevant issues to be addressed as the Board pursues opportunities to strengthen capacity of programs at the tribal colleges and universities.

Additional Information: Individuals who will need accommodations for a disability in order to attend the meeting (e.g., interpreting services, assistive listening devices, or material in alternative format) should notify Tonya Ewers at (202) 219-7040, no later than Monday, January 28, 2008. We will attempt to meet requests for accommodations after this date, but we cannot guarantee their availability. The meeting site is accessible to individuals with disabilities.

An opportunity for public comment is available on Tuesday, February 12, 2008, between 1:15 p.m. and 1:45 p.m. Comments will be limited to five (5) minutes for those speakers who sign up to speak. Those members of the public interested in submitting written comments may do so at the address indicated above by Monday, January 28, 2008.

Records are kept of all Board proceedings and are available for public inspection at the Office of the White House Initiative on Tribal Colleges and Universities, U.S. Department of Education, 1990 K Street, NW., Washington, DC 20006, during the hours of 8 a.m. to 5 p.m., Eastern Standard Time, Monday through Friday.

Electronic Access to this Document: You may view this document, as well as all other documents of this Department published in the Federal Register, in text or Adobe Portable Document Format (PDF) on the Internet at the following site: http://www.ed.gov/news/federegister.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal regulations is available on GPO Access at: http://www.gpoaccess.gov/nara/index.html.

Diane Auer Jones,
Assistant Secretary, Office of Postsecondary Education.

[FR Doc. E8-1364 Filed 1-25-08; 8:45 am]

BILLING CODE 4000-01-P